DEPARTMENT OF ENERGY

Federal Energy Regulatory Commission

[Project No. 13526-001]

Bowersock Mills and Power Company; Notice of Application Tendered for Filing With the Commission; Intent To Waive Stage I and Stage II Pre-Filing Consultation Requirements and Scoping; Soliciting Additional Study Requests; and Establishing Procedural Schedule for Licensing

March 3, 2010.

Take notice that the following hydroelectric application has been filed with the Commission and is available for public inspection.

a. Type of Application: Original Major License.

b. Project No.: 13526-001.

c. Date Filed: February 8, 2010.

d. Applicant: Bowersock Mills Power Company (Bowersock).

e. Name of Project: Bowersock Mills and Power Company Expanded Kansas River Hydropower Project.

f. Location: The project would be located on the Kansas River in Douglas County, Kansas. The project would not affect Federal lands.

g. Filed Pursuant to: Federal Power Act, 16 U.S.C. 791(a)-825(r).

h. Applicant Contact: Sarah Hill-Nelson, The Bowersock Mills and Power Company, P.O. Box 66, Lawrence, Kansas 66044; (785)-766-0884.

i. FERC Contact: Monte TerHaar, (202) 502-6035, or via e-mail at monte.terhaar@ferc.gov.

j. Cooperating agencies: Federal, State, local, and Tribal agencies with jurisdiction and/or special expertise with respect to environmental issues that wish to cooperate in the preparation of the environmental document should follow the instructions for filing such requests in item l below. Cooperating agencies should note the Commission's policy that agencies that cooperate in the preparation of the environmental document cannot also intervene. See 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing requests for cooperating agency status and additional studies: April 9, 2010.

All documents may be filed electronically via the Internet. See 18 CFR 385.2001(a)(1)(iii) and the instructions on the Commission's Web site (http://www.ferc.gov/docs-filing/ferconline.asp) under the “e-Filing” link. For a simpler method of submitting text only comments, click on “Quick Comment”. For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

m. This application is not ready for environmental analysis at this time.

n. Project Description: The existing Bowersock dam and powerhouse currently operates under an exemption (Project No. 2644) as a small hydropower project of 5 megawatts (MW) or less. The proposed project would consist of the existing Bowersock dam and two powerhouses; the existing powerhouse on the South bank of the Kansas River, and a proposed powerhouse on the North bank of the Kansas River. The proposed project would have a total capacity of 6.012 MW and generate an estimated 33 gigawatt-hours annually. The electricity produced by the project would be sold to a local utility.

The proposed project would consist of the following:

(1) The existing 665-foot-long, 17-foot-high timber-crib Bowersock Dam; (2) a 120-foot-long gated spillway with seven gates; (3) raising the existing flashboards from 4 feet high to 5.5 feet high; (4) an existing 4.3-mile-long reservoir, having a normal water surface elevation of 813.5 feet mean sea level; (5) an existing South powerhouse, containing seven turbine/generator units having an installed capacity of 2.012 MW; (6) a proposed North powerhouse with four turbine/generator units, having an installed capacity of 4.6 MW; (7) a proposed 20-foot-wide roller gate; (8) a new intake flume with trashracks; (9) a new 150-foot-long recreational boat portage located along the north bank of the Kansas River; (10) a new 765-foot-long, 12-kilovolt (kV) transmission line connecting to an existing 535-foot-long 2.3-kV transmission line; and (8) appurtenant facilities.

The project would be operated in a run-of-river mode, where water levels in the reservoir would be maintained near the top of the flash boards. To avoid potential flooding of upstream lands, the project would incorporate a 20-foot-wide roller gate designed to release flows up to 2,600 cfs. In addition, the flashboards would be designed to collapse during periods of high inflows when the water surface elevation rises 6 inches above the top of the flashboards.

o. A copy of the application is available for review at the Commission in the Public Reference Room or may be viewed on the Commission's Web site at http://www.ferc.gov, using the “eLibrary” link. Enter the docket number excluding the last three digits in the docket number field to access the document. For assistance, contact FERC Online Support. A copy is also available for inspection and reproduction at the address in item (h) above.

You may also register online at http://www.ferc.gov/docs-filing/esubscription.asp to be notified via e-mail of new filings and issuances related to this or other pending projects. For assistance, contact FERC Online Support.

p. With this notice we intend to waive stage I and stage II pre-filing consultation requirements. On October 6, 2009 Bowersock filed a pre-application document and request for waiver of stage I and stage II consultation. As required by sections 5.3(d)(2) of the Commission's regulations, on September 24, 2009 Bowersock published notice in a local paper (the Lawrence Daily Journal) of its request to waive consultation which specified that comments should be filed with the Commission. The application includes letters from the U.S. Fish and Wildlife Service and the Kansas Department of Wildlife and Parks, both indicating that there is sufficient information available to make a recommendation for licensing the project and that no further studies are necessary. Commission staff reviewed the application and comments received and determined that Bowersock's application adequately addresses the issues such that no additional agency consultation is necessary.

q. With this notice we intend to waive scoping. Based on a review of the application filed by Bowersock, resource agency consultation letters, and comments filed to date, Commission staff intends to prepare a single environmental assessment (EA). The EA will assess the potential effects of project construction and operation on geology and soils, aquatic, terrestrial, threatened and endangered species, recreation and land use, aesthetic, and cultural and historic resources. Commission staff determined that the issues that need to be addressed in its EA have been adequately identified during the pre-filing period for the application, which includes a public meeting and site visit conducted by Bowersock on August 13, 2009, and no new issues are likely to be identified through additional scoping.

r. Procedural Schedule: The application will be processed according to the following Hydro Licensing Schedule. Revisions to the schedule will be made as appropriate.

Milestone | Target date
Additional study requests and cooperating agency request due | April 9, 2010.
Notice of Acceptance, Intervenors, and Ready for Environmental Analysis issued | April 23, 2010.
Recommendations, preliminary terms & conditions, and fishway prescriptions due | June 22, 2010.
Commission issues EA | August 20, 2010.
Comments on EA due. | September 20, 2010.

Kimberly D. Bose,
Secretary.

[FR Doc. 2010-5040 Filed 3-9-10; 8:45 am]

BILLING CODE 6717-01-P